ENVIRONMENTAL PROTECTION AGENCY

40 CFR Part 52

[EPA-R05-OAR-2021-0684; FRL-12805-02-R5]

Air Plan Approval; Minnesota; Exempt Source SIP Revision

AGENCY: Environmental Protection Agency (EPA).

ACTION: Final rule.

SUMMARY: The Environmental Protection Agency (EPA) is approving a revision to the Minnesota State Implementation Plan (SIP) with updates to Minnesota's air program rules. The Minnesota Pollution Control Agency (MPCA) submitted the request to EPA on October 1, 2021. The revision to Minnesota's air quality rules reflects changes that have occurred since July 2020. EPA proposed to approve this submittal, which will result in consistent requirements of rules at both the State and Federal level, on July 16, 2025, and received no adverse comments.

DATES: This final rule is effective on December 22, 2025.

ADDRESSES: EPA has established a docket for this action under Docket ID No. EPA-R05-OAR-2021-0684. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Jennifer Darrow, at (312) 886-6315 before visiting the Region 5 office.

FOR FURTHER INFORMATION CONTACT: Jennifer Darrow, Air and Radiation Division (AR18J), Environmental Protection Agency, Region 5, 77 West Jackson Boulevard, Chicago, Illinois 60604, (312) 886-6315, darrow.jennifer@epa.gov.

SUPPLEMENTARY INFORMATION: Throughout this document whenever “we,” “us,” or “our” is used, we mean EPA.

I. Background Information

On July 16, 2025 (90 FR 31918), EPA proposed to approve Minnesota's October 1, 2021, SIP revision request. The revision included amendments to permit rules, clarifications of permit requirements for small sources of air emissions, updates to rules governing small air pollution sources and the addition of four categories of conditionally exempt sources. Minnesota completed a State rulemaking to clarify exempt source and insignificant activities rules in 2019. This SIP revision codifies those amendments to State law in the Minnesota SIP. An explanation of the Clean Air Act requirements, a detailed analysis of the revisions, and EPA's reasons for proposing approval were provided in the notice of proposed rulemaking (NPRM) and will not be restated here. The public comment period for this proposed rule ended on August 15, 2025. EPA received one comment in support of the proposed approval. The comment received is included in the docket for this action.

We do not consider the comment to be germane or relevant to this action and, therefore, not adverse to this action. Therefore, we are finalizing our action as proposed.

II. Final Action

EPA is approving MPCA's October 1, 2021, submittal, as a revision to its existing SIP. Specifically, EPA is approving and incorporating by reference the following rule sections as adopted on January 7, 2019, and published electronically on April 3, 2019, into the Minnesota SIP at 40 CFR 52.1220(c):

• Chapter 7005 Definitions and Abbreviations, section 7005.0100;

• Chapter 7007 Air Emission Permits, sections 7005.0100, 7007.0300, 7007.0400, 7007.0850, 7007.1144, 7007.1145, 7007.1147, 7007.1250, and 7007.1300;

• Chapter 7008 Conditionally Exempt Stationary Sources and Conditionally Insignificant Activities, sections 7008.0100, 7008.0200, 7008.2100, 7008.2200, 7008.2300, 7008.2400, 7008.2500, 7008.2600, 7008.4000, 7008.4100, and 7008.4110;

• Chapter 7011 Standards for Stationary Sources, sections 7011.0561, 7011.1201, and 7011.2300; and

• Chapter 7019 Emission Inventory Requirements, section 7019.3020.

EPA is also removing rule 7023 from the SIP as this rule is obsolete given the November 2019 expiration of the CO Maintenance area.

III. Incorporation by Reference

In this rule, EPA is finalizing regulatory text that includes incorporation by reference. In accordance with requirements of 1 CFR 51.5, EPA is finalizing the incorporation by reference of the Minnesota Regulations described in section II. of this preamble and set forth in the amendments to 40 CFR part 52 below. EPA has made, and will continue to make, these documents generally available through https://www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the Clean Air Act as of the effective date of the final rulemaking of EPA's approval, and will be incorporated by reference in the next update to the SIP compilation.¹

¹ 62 FR 27968 (May 22, 1997).

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by January 20, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen oxides, Ozone, Particulate matter, Reporting and recordkeeping requirements, Sulfur oxides, Volatile organic compounds.

Dated: October 28, 2025.
Anne Vogel,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1220(c), amend “Table 1 to Paragraph (c)—EPA-Approved Minnesota Regulations”:

a. Under the heading “CHAPTER 7005 DEFINITIONS AND ABBREVIATIONS” by revising the entry for 7005.0100;

b. Under the heading “CHAPTER 7007 AIR EMISSION PERMITS” by revising the entries for 7007.0300, 7007.0400, 7007.0850, 7007.1144, 7007.1145, 7007.1147, 7007.1250, and 7007.1300;

c. Under the heading “CHAPTER 7008 CONDITIONALLY EXEMPT STATIONARY SOURCES AND CONDITIONALLY INSIGNIFICANT ACTIVITIES” by:

i. Revising the entries for 7008.0100, 7008.0200, 7008.2100, 7008.2200;

ii. Adding new entries for 7008.2300, 7008.2400, 7008.2500, and 7008.2600, after the entry for 7008.2250; and

iii. Revising the entries for 7008.4000, 7008.4100, and 7008.4110;

d. Under the heading “CHAPTER 7011 STANDARDS FOR STATIONARY SOURCES”:

i. Under the sub-heading “WASTE COMBUSTORS” by revising the entry for 7011.1201;

ii. Under the sub-heading “STATIONARY INTERNAL COMBUSTION ENGINES” by revising the entry for 7011.2300; and

iii. Under the sub-heading “INDIRECT HEATING FOSSIL-FUEL-BURNING EQUIPMENT” by adding a new entry for 7011.0561 after the entry for 7011.0553;

e. Under the heading “CHAPTER 7019 EMISSION INVENTORY REQUIREMENTS” by revising the entry for 7019.3020; and

f. By removing the heading “CHAPTER 7023 MOBILE AND INDIRECT SOURCES” and the entries for 7023.0100, 7023.0105, 7023.0110, 7023.0115, 7023.0120, 7023.1010, 7023.1015, 7023.1020, 7023.1025, 7023.1030, 7023.1035, 7023.1040, 7023.1045, 7023.1050, 7023.1055, 7023.1060, 7023.1065, 7023.1070, 7023.1075, 7023.1080, 7023.1085, 7023.1090, 7023.1100, and 7023.1105.

The revisions and additions read as follows:

§ 52.1220 Identification of plan.

* * * * *

(c) * * *

Table 1 to Paragraph (c)—EPA-Approved Minnesota Regulations
Minnesota citation | Title/subject | State adoption date | EPA approval date | Comments
* * * * * * *
CHAPTER 7005 DEFINITIONS AND ABBREVIATIONS
7005.0100 | DEFINITIONS | 1/7/2019 | 11/20/2025, 90 FR [Insert Federal Register page where the document begins]
* * * * * * *
CHAPTER 7007 AIR EMISSION PERMITS
* * * * * * *
7007.0300 | SOURCES NOT REQUIRED TO OBTAIN PERMIT | 1/7/2019 | 11/20/2025, 90 FR [Insert Federal Register page where the document begins]
* * * * * * *
7007.0400 | APPLICATIONS TO REISSUE PERMIT AFTER TRANSITION; NEW SOURCE AND PERMIT AMENDMENT APPLICATIONS; TOTAL FACILITY APPLICATIONS FOR SOURCES NEWLY SUBJECT TO PART 70 OR STATE PERMIT TOTAL FACILITY REQUIREMENT | 1/7/2019 | 11/20/2025, 90 FR [Insert Federal Register page where the document begins]
* * * * * * *
7007.0850 | PERMIT APPLICATION NOTICE AND COMMENT | 1/7/2019 | 11/20/2025, 90 FR [Insert Federal Register page where the document begins]
* * * * * * *
7007.1144 | CAPPED PERMIT; PUBLIC PARTICIPATION | 1/7/2019 | 11/20/2025, 90 FR [Insert Federal Register page where the document begins]
7007.1145 | CAPPED PERMIT APPLICATION | 1/7/2019 | 11/20/2025, 90 FR [Insert Federal Register page where the document begins]
* * * * * * *
7007.1147 | CAPPED PERMIT; CALCULATING ACTUAL EMISSIONS | 1/7/2019 | 11/20/2025, 90 FR [Insert Federal Register page where the document begins]
* * * * * * *
7007.1250 | INSIGNIFICANT MODIFICATIONS | 1/7/2019 | 11/20/2025, 90 FR [Insert Federal Register page where the document begins]
7007.1300 | INSIGNIFICANT ACTIVITIES LIST | 1/7/2019 | 11/20/2025, 90 FR [Insert Federal Register page where the document begins]
* * * * * * *
CHAPTER 7008 CONDITIONALLY EXEMPT STATIONARY SOURCES AND CONDITIONALLY INSIGNIFICANT ACTIVITIES
* * * * * *
7008.0100 | DEFINITIONS | 1/7/2019 | 11/20/2025, 90 FR [Insert Federal Register page where the document begins]
7008.0200 | GENERAL REQUIREMENTS | 1/7/2019 | 11/20/2025, 90 FR [Insert Federal Register page where the document begins]
* * * * * * *
7008.2100 | GASOLINE SERVICE STATIONS; TECHNICAL STANDARDS | 1/7/2019 | 11/20/2025, 90 FR [Insert Federal Register page where the document begins]
7008.2200 | CONCRETE MANUFACTURING; TECHNICAL STANDARDS | 1/7/2019 | 11/20/2025, 90 FR [Insert Federal Register page where the document begins]
* * * * * * *
7008.2300 | AUTO-BODY REFINISHING; TECHNICAL STANDARDS | 1/7/2019 | 11/20/2025, 90 FR [Insert Federal Register page where the document begins]
7008.2400 | COATING FACILITY; TECHNICAL STANDARDS | 1/7/2019 | 11/20/2025, 90 FR [Insert Federal Register page where the document begins]
7008.2500 | WOODWORKING FACILITY; TECHNICAL STANDARDS | 1/7/2019 | 11/20/2025, 90 FR [Insert Federal Register page where the document begins]
7008.2600 | INSIGNIFICANT FACILITY; TECHNICAL STANDARDS | 1/7/2019 | 11/20/2025, 90 FR [Insert Federal Register page where the document begins]
7008.4000 | CONDITIONALLY INSIGNIFICANT ACTIVITIES | 1/7/2019 | 11/20/2025, 90 FR [Insert Federal Register page where the document begins]
7008.4100 | CONDITIONALLY INSIGNIFICANT ACTIVITY; MATERIAL USAGE | 1/7/2019 | 11/20/2025, 90 FR [Insert Federal Register page where the document begins]
7008.4110 | CONDITIONALLY INSIGNIFICANT ACTIVITY; MECHANICAL FINISHING OPERATIONS | 1/7/2019 | 11/20/2025, 90 FR [Insert Federal Register page where the document begins]
* * * * * * *
CHAPTER 7011 STANDARDS FOR STATIONARY SOURCES
* * * * * * *
INDIRECT HEATING FOSSIL-FUEL-BURNING EQUIPMENT
* * * * * * *
7011.0561 | CONTROLLING MERCURY FROM ELECTRIC GENERATING UNITS | 1/7/2019 | 11/20/2025, 90 FR [Insert Federal Register page where the document begins] |
* * * * * * *
WASTE COMBUSTORS
7011.1201 | DEFINITIONS | 1/7/2019 | 11/20/2025, 90 FR [Insert Federal Register page where the document begins]
* * * * * * *
STATIONARY INTERNAL COMBUSTION ENGINES
7011.2300 | STANDARDS OF PERFORMANCE FOR STATIONARY INTERNAL COMBUSTION ENGINES | 1/7/2019 | 11/20/2025, 90 FR [Insert Federal Register page where the document begins]
* * * * * * *
CHAPTER 7019 EMISSION INVENTORY REQUIREMENTS
* * * * * *
7019.3020 | CALCULATING ACTUAL EMISSIONS FOR EMISSION INVENTORY | 1/7/2019 | 11/20/2025, 90 FR [Insert Federal Register page where the document begins]
* * * * * * *

* * * * *

[FR Doc. 2025-20492 Filed 11-19-25; 8:45 am]

BILLING CODE 6560-50-P